FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANS No. | ACQUIRING | ACQUIRED | ENTITIES
TRANSACTIONS GRANTED EARLY TERMINATION—10/03/2005
20050527 | DaVita Inc | Gambro AB | Gambro Healthcare, Inc.
20051592 | Harrah's Entertainment, Inc | Ralph Engelstad and Betty Engelstad, Family Trust UTA 3/6/01 | Imperial Palace, LLC.
20051630 | Parthenon Investors II, L.P | Medical Consultants, Inc | Medical Consultants, Inc.
20051659 | CRH plc | Legg Mason Capital Partners, LP | Jolly Gardener Products, Inc.
20051662 | Eye 1 S.a.r.l. | Thales SA | Avimo Europe Limited, Avimo North America Inc., Thales Electro-Optics Pte Limited, Thales Optics Limited.
TRANSACTIONS GRANTED EARLY TERMINATION—10/04/2005
20051587 | Ventiv Health, Inc. | R. Blane Walter | inChord Communications, Inc.
20051610 | Medimmune, Inc | Cellective Therapeutics, Inc | Cellective Therapeutics, Inc.
20051627 | Koninkliijke Philips Electronics N.V | LumiLeds Lighting International B.V | LumiLeds Lighting International B.V.
20051668 | GTCR Fund VIII, L.P | James Levoy Sorenson | Sorenson Communications, Inc.
TRANSACTIONS GRANTED EARLY TERMINATION—10/07/2005
20051641 | Kirk Kerkorian | General Motors Corporation | General Motors Corporation
20051655 | J.C. Flowers I, L.P. | Marsh & McLennan Companies, Inc. | Crump Group, Inc.
20051674 | Nelnet, Inc | The Education Financing Foundation of California | Chela Education Financing, Inc.
20051677 | Open Solutions Inc | The BISYS Group, Inc | BIS LP Inc.
20051681 | Berkshire Hathaway Inc | Walter Scott, Jr | MidAmerican Energy Holdings Company.
20051695 | AECOM Technology Corporation | EDAW, Inc | EDAW, Inc.
TRANSACTIONS GRANTED EARLY TERMINATION—10/12/2005
20051656 | American Capital Strategies, Ltd | Vicki Rainsberger and Family | Value Plastics, Inc., VANM LLP.
20051671 | Wexford Partners VI, L.P | Thomas Drilling Company | Thomas Drilling Company.
20051672 | TPG Partners IV. L.P | Certegy Inc | Certegy Inc.
20051676 | Fidelity National Financial, Inc | Certegy Inc | Certegy Inc.
20051678 | Thomas H. Lee Equity Fund V, L.P | Certegy Inc | Certegy Inc.
20051685 | MarkWest Energy Partners, L.P | Javelina Company | Javelina Company
20051693 | Norsk Hydro ASA | Spinnaker Exploration Company | Spinnaker Exploration Company.
TRANSACTIONS GRANTED EARLY TERMINATION—10/13/2005
20050939 | Adobe Systems Incorporated | Macromedia Inc. | Macromedia Inc.
20051664 | Schnitzer Steel Industries, Inc. | Regional Recycling LLC | 939 Fortress Investments, LLC, Fortress Apartments, LLC, Metal Asset Acquisition, LLC, Regional Recycling LLC.
20051675 | Walgreen Co. | William M. Hait | Schraft's A Specialty Pharmacy, LLC.
20051688 | General Electric Company | Manulife Financial Corporation | Cathlamet Timber Company, LLC, Rainier Mineral Company, LLC, Rainier Timber Company, LLC.
20051692 | Compania de Cemento Argos, S.A | Piazza Acquisition Corp | Piazza Acquisition Corp.
20051694 | Hicks, Muse, Tate & Furst Equity Fund V, L.P | Aon Corporation | J.H. Blade & Co., Inc., Sherwood Insurance Services, Sherwood Insurance Services of Washington, Inc., The Swett & Crawford Group, Inc.
20051696 | Atlas Pipeline Partners, L.P. | OGE Energy Corp | Enogex Arkansas Pipeline Corporation.
20051700 | Infinite Energy, Inc | ECONnergy Energy Company, Inc | ECONnergy Energy Company, Inc.
20060003 | Nelnet, Inc | Greater Texas Foundation | LoanSTAR Funding Group, Inc., LoanSTAR Systems, Inc.
TRANSACTIONS GRANTED EARLY TERMINATION—10/14/2005
20051683 | WF Holdings, Inc | Carlyle Partners III, L.P | The Relizon Company.
20051691 | Triad Hospitals, Inc | Clarksville Health System, G.P | Clarksville Health System, G.P.
TRANSACTIONS GRANTED EARLY TERMINATION—10/17/2005
20051665 | HSBC Holdings plc | Marathon Fund Limited Partnership III | Claire-Sprayway, Inc.
20051679 | Israel Corporation Limited | Solutia Inc | Astaris LLC.
20051680 | Israel Corporation Limited | FMC Corporation | Astaris LLC.
20060001 | Merrill Lynch & Co., Inc | AXA S.A | The Advest Group, Inc.
20060006 | The Garfield Weston Charitable Foundation | Protient, Inc | Protient, Inc.
20060007 | Cougar Holdings, Inc | CCC Information Services Group Inc | CCC Information Services Group Inc.
20060031 | Value Act Capital Master Fund L.P | Per-Se Technologies, Inc | Per-Se Technologies, Inc.
TRANSACTIONS GRANTED EARLY TERMINATION—10/18/2005
20050900 | Cal Dive International Inc | Stolt Offshore S.A | Stolt Offshore S.A.
20060015 | Olympus Growth Fund IV, L.P | Bain Capital Fund IV, L.P | Professional Service Industries Holdings, Inc.
20060016 | Johnson Electric Holdings Limited | SAIA-Burgess Electronics Holding AG | SAIA-Burgess Electronics Holding AG.
20060017 | Hewlett-Packard Company | ApplQ, Inc | ApplQ, Inc.
20060025 | Lindsay Goldberg & Bessemer L.P | GTCR Fund VII, L.P | ARG Holdings, Inc.
20060040 | Bruckmann, Rosser, Sherrill & Co. II, L.P | Brinker International, Inc | Brinker Corner Bakery II, LLC, Brinker Corner Bakery I, LLC, Brinker Corner Bakery, L.P., Maggiano's/Corner Bakery Holding, Maggiano's/Corner Bakery, L.P.
TRANSACTIONS GRANTED EARLY TERMINATION—10/19/2005
20051661 | TCV V, L.P | Penson Worldwide, Inc | Penson Worldwide, Inc.
TRANSACTIONS GRANTED EARLY TERMINATION—10/20/2005
20051371 | Cooper Cameron Corporation | DEG Acquisitions, LLC | Dresser, Inc.
20051634 | KCP Income Fund | Satish Shah | APG, Inc.
TRANSACTIONS GRANTED EARLY TERMINATION—10/21/2005
20051007 | First Data Corporation | Great Hill Equity Partners II, L.P | GMT Group, Inc.
20060002 | Chicken Acquisition Corp | American Securities Partners II, L.P | EPL Holdings, Inc.
20060033 | Wind Point Partners V, L.P | Kestrel Acquisition Corp | Kestrel Acquisition Corp.
20060036 | NEWStar Waste Holdings Corp | B III Capital Partners, L.P | North East Waste Services, Inc.
20060038 | Arend Oetker | Madison Dearborn Capital Partners, L.P | Milnot Holding Corporation.
20060041 | Perry Partners, L.P | Sears Holdings Corporation | Sears Holdings Corporation.
20060042 | Perry Partners International, Inc | Sears Holdings Corporation | Sears Holdings Corporation.
20060045 | E*TRADE Financial Corporation | JPMorgan Chase & Co | J.P. Morgan Invest, LLC.
20060047 | Blackstone ECC Communications Partners L.P | Jeffrey H. Smulyan | Emmis Television Broadcasting L.P., Emmis Television License, LLC, SJL of Kansas Corp.
20060050 | Fenway Partners Capital Fund II, L.P | SK Equity Fund, L.P | Targus Group International, Inc.
20060051 | Bruckmann, Rosser, Sherrill & Co. II, L.P | SAFE Boats Delaware LLC | SAFE Boats Delaware LLC.
20060053 | Check Point Software Technologies Ltd | Sourcefire, Inc | Sourcefire, Inc.

For Further Information Contact: Sandra M. Peay, Contact Representative; or Renee Hallman, Contact Representative.

Federal Trade Commission, Premerger Notification Office, Bureau of Competition, Room H-303, Washington, DC 20580. (202) 326-3100.

By direction of the Commission.
Donald S. Clark,
Secretary.

[FR Doc. 05-21812 Filed 11-1-05; 8:45 am]

BILLING CODE 6750-01-M